DEPARTMENT OF COMMERCE

National Oceanic and Atmospheric Administration

RIN 0648-XD257

Fisheries of the Exclusive Economic Zone off Alaska; Application for an Exempted Fishing Permit

AGENCY: National Marine Fisheries Service (NMFS), National Oceanic and Atmospheric Administration (NOAA), Commerce.

ACTION: Notice; public comment on an application for exempted fishing permit.

SUMMARY: This notice announces receipt of an application and the public comment period for an exempted fishing permit (EFP) from Mr. John Gauvin of Gauvin and Associates, LLC. If granted, this permit would allow the applicant to continue the development and testing of a salmon excluder device for the Bering Sea pollock trawl fishery. This activity is intended to promote the objectives of the Fishery Management Plan for Groundfish of the Bering Sea and Aleutian Islands Management Area (FMP) by reducing salmon bycatch in the Bering Sea pollock trawl fishery.

DATES: Submit comments on or before June 23, 2014. Interested persons may comment on the EFP application and on the environmental assessment (EA) during the North Pacific Fishery Management Council (Council) meeting June 2 through June 10, 2014, in Nome, AK.

ADDRESSES: You may submit comments on this document, identified by FDMS Docket Number NOAA-NMFS-2014-0050, by any of the following methods:

• Electronic Submission: Submit all electronic public comments via the Federal e-Rulemaking Portal. Go to www.regulations.gov/#!docketDetail;D= NOAA-NMFS-2014-0050, click the “Comment Now!” icon, complete the required fields, and enter or attach your comments.

• Mail: Submit written comments to Glenn Merrill, Assistant Regional Administrator, Sustainable Fisheries Division, Alaska Region NMFS, Attn: Ellen Sebastian. Mail comments to P.O. Box 21668, Juneau, AK 99802-1668.

Instructions: Comments sent by any other method, to any other address or individual, or received after the end of the comment period, may not be considered by NMFS. All comments received are a part of the public record and will generally be posted for public viewing on www.regulations.gov without change. All personal identifying information (e.g., name, address), confidential business information, or otherwise sensitive information submitted voluntarily by the sender will be publicly accessible. NMFS will accept anonymous comments (enter “N/A” in the required fields if you wish to remain anonymous). Attachments to electronic comments will be accepted in Microsoft Word, Excel, or Adobe PDF file formats only.

Electronic copies of the Secretarial Review Draft Environmental Assessment For Issuing an Exempted Fishing Permit for the Purpose of Testing a Salmon Excluder Device in the Eastern Bering Sea Pollock Fishery, May 2014, prepared for this action are available from http://www.regulations.gov or from the NMFS Alaska Region Web site at http://alaskafisheries.noaa.gov.

FOR FURTHER INFORMATION CONTACT: Jeff Hartman, 907-586-7442.

SUPPLEMENTARY INFORMATION: NMFS manages the domestic groundfish fisheries in the Bering Sea and Aleutian Islands Management Area (BSAI) under the FMP. The Council prepared the FMP under the Magnuson-Stevens Fishery Conservation and Management Act. Regulations governing the groundfish fisheries of the BSAI appear at 50 CFR parts 600 and 679. The FMP and the implementing regulations at §§ 600.745(b) and 679.6 authorize issuance of EFPs to allow fishing that would otherwise be prohibited. Procedures for issuing EFPs are contained in the implementing regulations.

NMFS received an application for an EFP from Mr. Gauvin in December 2013. The purposes of the EFP project would be to improve the performance of the salmon excluder device developed under EFP 11-01 from 2011 to 2012, and to validate the performance of this device for pollock trawl gear used in the BSAI. The EFP project would focus on testing a redesigned excluder device to reduce chum salmon and Chinook salmon bycatch and refine the device for use on trawl vessels fishing for groundfish. The goal is to develop a device for pollock trawl gear that reduces salmon bycatch without significantly lowering pollock catch rates. Salmon are prohibited species that are incidentally caught in the pollock fishery (§ 679.21(e) and (f)).

The EFP would allow for testing of the salmon excluder device from January 2015 through June 2016, for several weeks in each pollock A and B season. Testing in each season would allow the device to be used under salmon occurrence and pollock fishing practices specific to each season. Testing in the A season would catch primarily Chinook salmon and roe-bearing pollock, while testing in the B season would catch Chinook and chum salmon and pollock that are not likely to be roe-bearing. EFP fishing would be conducted by one to two vessels in each season.

To test the salmon excluder device, exemptions would be necessary from regulations for salmon bycatch management, observer requirements, closure areas, total allowable catch amounts (TACs) for groundfish, and prohibited species catch (PSC) limits for the pollock fishery. Taking salmon during the experiment is crucial for determining the effectiveness of the device. Salmon taken during the experiment would not be counted toward the Chinook and chum salmon PSC limits under § 679.21(e)(1)(vii), (e)(3)(i)(A)(3), and (f)(2). The amount of chum salmon PSC taken by the pollock trawl industry during the EFP period could approach or exceed the chum salmon PSC limits under § 679.21(e)(7)(vii). If the EFP salmon were counted toward the salmon PSC limits, the EFP salmon may create an additional burden on the pollock trawl fishermen not participating in an intercooperative agreement for chum salmon or incentive plan agreement for Chinook salmon bycatch reduction by causing earlier closures of the Chum Salmon Savings Area or violating the plan agreement for Chinook salmon. More information regarding the intercooperative agreement for salmon bycatch reduction is at 72 FR 61070 (October 29, 2007). Information regarding the incentive plan agreements under Amendment 91 for Bering Sea Chinook salmon bycatch management is at 75 FR 53026 (August 30, 2010).

Approximately 2,500 chum salmon and 250 Chinook salmon for the 2015 B season and 500 chum salmon and 1,200 Chinook salmon for the 2015 and 2016 A seasons would be required to support the project. In total, the applicant would be limited to harvesting 3,000 chum salmon and 1,450 Chinook salmon during the EFP period. The experimental design requires this quantity of salmon to ensure statistically valid results.

The applicant also has requested an exemption from the Chum Salmon Savings Area (§§ 679.21(e)(7)(vii) and 679.22(a)(10)), the Bering Sea Pollock Restriction Area (§ 679.22(a)(7)(ii)), and the Steller Sea Lion Conservation Area (§ 679.22(a)(7)(vii)). These overlapping areas occur in locations of salmon concentration. The experiment must be conducted in areas of salmon concentration sufficient to ensure a statistically adequate sample size. These locations are ideal for conducting the experiment and ensuring that the vessel encounters sufficient concentrations of salmon and pollock for meeting the experimental design.

Groundfish taken under the EFP would be exempt from the TACs specified in the annual harvest specifications (§ 679.20). A total of 2,500 metric tons (mt) of groundfish (primarily pollock) would be taken during each A season of 2015 and 2016, and 2,500 mt of groundfish would be taken in the B season of 2016 for a total of 7,500 mt over the duration of the EFP. Approximately 96 percent of the groundfish harvested is expected to be pollock. The experimental design requires this quantity of pollock to ensure a statistically adequate sample size for measuring pollock escapement through the salmon excluder device.

The EFP groundfish harvest would not be included in the harvest applied against the Bering Sea groundfish TACs. The preliminary 2015 TAC for Bering Sea pollock is equal to the acceptable biological catch (ABC) at 1,258,000 mt, but the TAC is likely to be adjusted during the 2015/2016 harvest specifications process and may result in a TAC less than ABC (79 FR 12108, March 4, 2014). TAC and ABC have not been specified for the 2016 fishing year at this time. The EFP fishing will be permitted for this proposed action if the ABC for Bering Sea pollock exceeds the TAC by at least 5,000 mt in 2015 and 2,500 mt in 2016. Because of very little groundfish incidental catch in the pollock fishery, the harvest of other fish species during the EFP fishing is expected to be 50 mt to 80 mt per season. The majority of these other species harvested under the EFP likely would be Pacific cod, skates, flatfish, halibut, and jellyfish. The amount of groundfish harvest under the EFP and by the commercial groundfish fisheries is not expected to cause ABCs for groundfish species to be exceeded in either 2015 or 2016 because other BSAI groundfish TACs are set with a sufficient difference between ABC and TAC to accommodate EFP fishing catch of groundfish species other than pollock.

The EFP is expected to take approximately 12 mt of halibut per season for a total of 12 mt of halibut in 2015 and 24 mt of halibut in 2016. The EFP would require an exemption from halibut PSC limits under § 679.21(e)(3)(ii)(C). The halibut taken under the EFP in combination with the groundfish fisheries is not expected to exceed the halibut PSC harvest specifications in 2015 or 2016.

Using a catcher/processor for the EFP study would require exemption from the Catcher Vessel Operational Area (CVOA) restriction (§ 679.22(a)(5)) because of the location of the Chinook salmon concentration in the CVOA. Catcher/processors are prohibited from operating in the CVOA during the B season. The EFP fishing may be done by either a catcher vessel or a catcher/processor. It may be necessary for the EFP applicant to use a catcher/processor to conduct tows in this area to ensure encountering sufficient pollock and salmon concentrations to meet the experimental design.

The EFP would exempt vessels that are EFP fishing from closures of the Chum Salmon Savings Area. This is necessary because the experimental design for this EFP is based on testing in areas with high incidental catch rates of salmon that may occur in the Chum Salmon Savings Area.

The EFP would include an exemption from selected observer requirements at §§ 679.50, 679.51, and 679.55. Participating vessels would use “sea samplers” who are NMFS-trained observers. They would not be deployed as NMFS observers, however, at the time of the EFP fishing. The “sea samplers” would conduct the EFP data collection and perform other observer duties that normally would be required for vessels directed fishing for pollock. EFP fishing trips also would be exempted from observer requirements for trip selection and fee collection.

The activities under the EFP are not expected to have a significant impact on the human environment as analyzed in the EA for this action (see ADDRESSES). The EFP would be subject to modifications pending any new relevant information regarding the 2015 and 2016 fishery, including the groundfish harvest specifications.

In accordance with 50 CFR 679.6 and 600 CFR 745(b)(3)(ii), NMFS has determined that the proposal warrants further consideration and has forwarded the application to the Council to initiate consultation. The Council will consider the EFP application during its meeting June 2 through June 10, 2014, which will be held at the Nome Mini Convention Center, 409 River St., Nome, AK. The applicant has been invited to appear in support of the application.

Public Comments

Public comments are being solicited on the application and the EA through the end of the comment period stated in this notice. To be considered, comments must be received on or before the last day of the comment period; that does not mean postmarked or otherwise transmitted by that date. Copies of the application and EA are available for review from NMFS (see ADDRESSES). Interested persons also may comment on the application and on the EA at the June 2014 Council meeting during public testimony.

Information regarding the meeting is available at the Council's Web site at http://www.alaskafisheries.noaa.gov/npfmc/.

Authority: 16 U.S.C. 1801 et seq.

Dated: May 20, 2014.
James P. Burgess,
Acting Director, Office of Sustainable Fisheries, National Marine Fisheries Service.

[FR Doc. 2014-12021 Filed 5-22-14; 8:45 am]

BILLING CODE 3510-22-P